DEPARTMENT OF TRANSPORTATION

Federal Transit Administration

Early Scoping Notice for an Alternatives Analysis of Proposed Transit Improvements in the Harbor Subdivision Transit Corridor of Los Angeles, CA

AGENCY: Federal Transit Administration, DOT.

ACTION: Early Scoping Notice.

SUMMARY: The Federal Transit Administration (FTA) and the Los Angeles County Metropolitan Transportation Authority (LACMTA) issue this early scoping notice to advise other agencies and the public that they intend to explore, in the context of the Council on Environmental Quality's early scoping process, methods of improving transit capacity and service in the Harbor Subdivision Transit Corridor of Los Angeles, California. The early scoping process is part of a planning Alternatives Analysis (AA) required by Title 49 United States Code (U.S.C.) § 5309, that will lead to the selection of the alternatives that will be subject to the appropriate environmental process. Early scoping meetings have been planned and are announced below.

The Harbor Subdivision Transit Corridor is approximately 35 miles in length and includes; 26.36 miles of the Harbor Subdivision that is owned by LACMTA (BNSF Railway currently has some freight operations on the ROW), approximately 2.5 miles to the north of the LACMTA-owned portion right-of-way that would provide the connection to downtown Los Angeles, and approximately 3.5-6 miles south of the LACMTA-owned portion of the right-of-way that would provide a possible connection to the Metro Harbor Transitway, Metro Blue Line, Port of Los Angeles Waterfront Red Car Line or any other destinations or transit facilities that would attract potential ridership.

The Metro-owned Harbor Subdivision Line extends 26.36 miles from Harbor Junction at the north, near downtown Los Angeles just east of the intersection of Washington Boulevard and Santa Fe Avenue and Watson Yard at the south, in Wilmington just east of Pacific Coast Highway (U.S. Highway 1) and Alameda Street. The Harbor Subdivision connects or runs adjacent to major destinations and transportation hubs including Los Angeles International Airport (LAX), Metro Blue Line, Harbor Transitway and the Port of Los Angeles. The Corridor traverses twelve jurisdictions including the cities of Los Angeles, Vernon, Huntington Park, Inglewood, El Segundo, Hawthorne, Lawndale, Manhattan Beach, Redondo Beach, Torrance, Carson and the County of Los Angeles. As it passes through these communities, it traverses residential neighborhoods, commercial and warehousing districts and industrial areas including oil fields and refineries. LAX lies to the west of the rail line along Aviation Boulevard near Century Boulevard.

The conclusion of the planning Alternatives Analysis is expected to be the selection of a set of alternatives by the LACMTA and the Southern California Association of Governments (SCAG), which is the official metropolitan planning organization for Los Angeles. The set of alternatives will then be the “proposed action” that are subject to an appropriate environmental review under the National Environmental Policy Act (NEPA). If the selected set of alternatives would have significant impacts, an environmental impact statement (EIS), combined with a California environmental impact report (EIR) would be initiated with a Notice of Intent in the Federal Register and distribution of a Notice of Preparation (NOP) required under the California Environmental Quality Act (CEQA). Public and agency scoping of the EIS/EIR would be conducted at that time. In particular, the purpose and need for the project, the range of alternatives to be considered in the EIS/EIR, the environmental and community impacts to be evaluated, and the methodologies to be used, would be subject to public and interagency review and comment, in accordance with 23 U.S.C. 139 and CEQA.

DATES: Written comments on the scope of the planning Alternatives Analysis, including the alternatives to be considered and the impacts to be assessed, should be sent to LACMTA at the address below by October 9, 2008. See ADDRESSES below for the address to which written public comments may be sent. Early scoping meetings to accept comments on the scope of the Alternatives Analysis will be held on the following dates:

• Tuesday, September 23, 2008, from 6:30 p.m. to 8:30 p.m. Torrance Cultural Arts Center, Nakano Theater, 3330 Civic Center Drive, Torrance, CA 90503.

• Wednesday, September 24, 2008, from 6:30 p.m. to 8:30 p.m. Banning's Landing Community Center, Gertrude #2 Room, 100 E. Water Street, Wilmington, CA 90748.

• Thursday, September 25, 2008, from 6 p.m. to 8 p.m. Westside Park Community Center, 2061 E. Gage Avenue, Huntington Park, CA 90255.

• Tuesday, September 30, 2008, from 6 p.m. to 8 p.m. El Segundo Public Library, Friends of the Library Meeting Room, 111 W. Mariposa Avenue, El Segundo, CA 90245.

The draft purpose and need for the project and the initial set of alternatives proposed for study will be presented at these meetings. The buildings and facilities used for the scoping meetings are accessible to persons with disabilities. Any individual who requires special assistance, such as a sign language interpreter, to participate in scoping should contact Ms. Devon Cichoski, LACMTA at 213-922-6446 or CICHOSKID@metro.net.

Scoping materials will be available at the meetings and are also available on the LACMTA Web site at http://www.metro.net/harborsubdivision. Hard copies of the scoping materials are available from Ms. Devon Cichoski, LACMTA at 213-922-6446 or CICHOSKID@metro.net.

An interagency scoping meeting will be held on Tuesday, September 30, 2008, from 9:30 a.m. to 11:30 a.m. at LACMTA, One Gateway Plaza, 3rd Floor Union Station Conference Room, Los Angeles, CA 90012. Representatives of Native American tribal governments and of all Federal, State and local agencies that may have an interest in any aspect of the project will be invited by phone, letter or e-mail.

It should be noted that, in addition to the early scoping meetings described herein, the agency and scoping meetings required under NEPA and CEQA to identify the nature and scope of environmental issues that should be addressed in the EIS/EIR will be held following the selection of alternatives to go through the environmental process and issuance of the NOI and NOP. The dates and locations for the EIS/EIR scoping meetings will be announced at that time and will be included in the NOI and NOP, which will be distributed in the same manner as this Early Scoping Notice.

ADDRESSES: Written comments on this Early Scoping Notice should be sent to Ms. Kathleen McCune, Project Manager, Los Angeles County Metropolitan Transportation Authority, One Gateway Plaza MS 99-22-3, Los Angeles, CA 90012, phone 213-922-7241, e-mail MCCUNEK@metro.net. The locations of the early scoping meetings are given above under DATES.

FOR FURTHER INFORMATION CONTACT: Mr. Ray Tellis, Team Leader, Los Angeles Metropolitan Office, Federal Transit Administration, 888 South Figueroa Street, Suite 1850, Los Angeles, CA 90017, phone 213-202-3950, e-mail ray.tellis@dot.gov.

SUPPLEMENTARY INFORMATION:

Early Scoping

The FTA and LACMTA invite all interested individuals and organizations, public agencies, and Native American tribes to comment on the scope of the planning Alternatives Analysis, including the purpose and need for transit improvements in the corridor, the alternatives to be considered, and the types of impacts to be evaluated. Comments at this time should focus on the purpose and need for transit improvements in the corridor; alternatives that may be less costly or have less environmental impact while achieving similar transportation objectives; and, the identification of any significant social, economic, or environmental issues that should be considered in developing the alternatives.

Purpose and Need for Action

The Harbor Subdivision project is expected to serve multiple transportation markets and address unmet mobility needs throughout Los Angeles County. Purposes of the project and needs of the community include:

• Improve mobility in southwestern Los Angeles County by introducing reliable, high-frequency transit service options.

• Enhance the regional transit network by interconnecting existing and planned rapid transit lines.

• Provide an alternative mode of transportation for commuters who currently use the congested I-405 and I-110 corridors.

• Encourage denser, transit-oriented development and land use policies around station areas.

• Improve transit accessibility for residents of underserved communities along the corridor.

• Encourage a mode shift to transit, reducing air pollution and greenhouse gas emissions.

Alternatives

A broad range of alternatives are being considered including various transit technologies, corridor alignments, configurations and operations, station types and locations, and Transportation Systems Management (TSM) improvements. In addition to these various types of actions, the implications of taking no action (i.e., the “no build” alternative) will be considered in the analysis. The following summarizes the general types of alternatives to be considered in the analysis, understanding that a broad variety of possible alternatives, and combinations thereof, will be initially identified and then undergo evaluation to define the alternatives for advancement to the environmental process. Further description of this process is provided below under FTA Procedures.

Alternative Technologies could include proven transportation systems such as the following: Bus Rapid Transit (BRT), Light Rail Transit (LRT), Electric Multiple Unit (EMU), Diesel Multiple Unit (DMU) in which service must conform to Metro's Clean Fuel Policies, and Commuter Rail. In every case service would be along a portion or all of the Harbor Subdivision corridor. Alignment alternatives will generally follow the Harbor Subdivision corridor as much as possible. Other routings will also be examined as part of the planning Alternatives Analysis using a comparative methodology to evaluate their feasibility. Potential alignment and improvement options outside the immediate Harbor Subdivision corridor that will be studied in the planning Alternatives Analysis include a Northern Terminus option where the Harbor Subdivision's northern terminus is approximately 2.5 miles south of downtown Los Angeles. Consideration will be given for connections to Metrolink, Metro Gold, Red and Purple Lines at Los Angeles Union Station, or the Metro Blue, Red, Purple and Expo Lines in the downtown area, a Southern Terminus option where the southern terminus of the Harbor Subdivision ends in Watson Yard in Wilmington just north of the Port of Los Angeles. Analysis of alternatives will consider the most logical location for a southern terminus. Consideration will be given as to whether it should connect to the existing Metro Blue Line, Harbor Transitway, Downtown Torrance area, Port of Los Angeles Waterfront Red Car Line, or some other transit facility or destination, and a Phased Segment option where the Harbor Subdivision is over 26 miles in length, so shorter alignment and modal alternatives will be considered in discrete segments that can operate as cost-effective stand alone projects. As part of the examination of discrete segments of the Harbor Subdivision, connections with the Crenshaw Transit Corridor, LAX and potential Metro Blue or Green Line interfaces will be evaluated. Rail & Bus Division Support Facilities where each modal alternative will require storage and maintenance facilities that can efficiently service the project. Locations and alternatives for such facilities will be identified in order that fair comparisons can be made. Station alternatives will include variations in the number, interval distance, location, design including whether above ground or below ground and whether stand-alone or integrated as part of another use, and operational characteristics.

Future No-Build Alternative—The study will consider the transportation and environmental effects if no new major transit investments beyond those that have already been environmentally cleared or are implemented in this corridor. This alternative will include the highway and transit projects in the current Metro Long Range Transportation Plan and the 2008 Southern California Association of Governments Regional Transportation Plan through 2030. For purposes of the Alternatives Analysis, the major fixed guideway investments under study for the Exposition Transit Corridor Phase 2 and Crenshaw Transit Corridor projects would not be included in the Future No-Build Alternative. The completion of the Metro Rapid Bus Program would be included as well as possible additional feeder bus networks to serve the region's major activity centers.

Transportation System Management (TSM) Alternative—The study will consider the effects of modest improvements in the highway and transit systems beyond those in the Future No-Build Alternative. The TSM Alternative would evaluate low-cost enhancements to the Future No-Build Alternative and would emphasize transportation system upgrades such as intersection improvements, minor road widening, traffic engineering actions, bus route restructuring, shortened bus headways, expanded use of articulated buses, reserved bus lanes, contra-flow lanes for buses and High Occupancy Vehicles (HOVs) on freeways, special bus ramps on freeways, expanded park/ride facilities, express and limited-stop service, signalization improvements, and timed-transfer operations.

In addition to the alternatives described above, other reasonable alternatives identified through the early scoping process will be considered for potential inclusion in the planning Alternatives Analysis. Alternative modes, vertical or horizontal alignments, or station locations may emerge from the early scoping process.

FTA Procedures

Early scoping is an optional element of the National Environmental Policy Act (NEPA) process that is particularly useful in situations where, as here, a proposed action (the locally preferred alternative) has not been identified and alternative modes and major alignment variations are under consideration in a broadly-defined corridor. While NEPA scoping normally follows issuance of a notice of intent, which describes the proposed action, it “may be initiated earlier, as long as there is appropriate public notice and enough information available on the proposal so that the public and relevant agencies can participate effectively.” See the Council on Environmental Quality's “Forty Most Asked Questions Concerning CEQ's National Environmental Policy Act Regulations,” 46 FR 18026, 18030 (1981). In this case, the available information is more than adequate to permit the public and relevant agencies to participate effectively in early scoping and the planning Alternatives Analysis.

LACMTA may seek New Starts funding for the proposed project under 49 U.S.C. § 5309 and will, therefore, be subject to New Starts regulation (49 Code of Federal Regulations [CFR] part 611). The New Starts regulation requires a planning Alternatives Analysis that leads to the selection of a Locally Preferred Alternative by LACMTA and the inclusion of the locally preferred alternative in the long-range transportation plan adopted by the Southern California Association of Governments. The planning Alternatives Analysis will examine alignments, technologies, station locations, costs, funding, ridership, economic development, land use, engineering feasibility, and environmental factors in the corridor. The New Starts regulation also requires the submission of certain project-justification information in support of a request to initiate preliminary engineering. After the identification of a proposed action at the conclusion of the planning Alternatives Analysis, if preparation of an environmental impact statement is warranted, a NOI will be published in the Federal Register and the scoping of the EIS/EIR will be completed by soliciting and considering comments on the purpose and need for the proposed action, the range of alternatives to be considered in the EIS/EIR, and the potentially significant environmental and community impacts to be evaluated in the EIS/EIR.

Concurrent with publication of the NOI pursuant to NEPA, a NOP will be distributed pursuant to CEQA. In conjunction with this final scoping of the EIS/EIR and consistent with provisions of 23 U.S.C. 139 and CEQA, invitations will be extended to other Federal and non-Federal agencies that may have an interest in this matter to be participating agencies. A plan for coordinating public and agency participation in the environmental review process and for commenting on the issues under consideration at various milestones of the process will be prepared and posted on the LACMTA Web site at http://www.metro.net/harborsubdivision.

Issued on: September 9, 2008.
Leslie T. Rogers,
Regional Administrator, Region IX, Federal Transit Administration.

[FR Doc. E8-21615 Filed 9-15-08; 8:45 am]

BILLING CODE 4910-57-P